DEPARTMENT OF COMMERCE

National Oceanic and Atmospheric Administration

[RTID 0648-XD076]

Magnuson-Stevens Fishery Conservation and Management Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow commercial fishing vessels to fish outside fishery regulations in support of research conducted by the applicant. Regulations under the Magnuson-Stevens Fishery Conservation and Management Act and the Atlantic Coastal Fisheries Cooperative Management Act require publication of this notification to provide interested parties the opportunity to comment on applications for proposed Exempted Fishing Permits.

DATES: Comments must be received on or before June 23, 2023.

ADDRESSES: You may submit written comments by the following method:

• Email: nmfs.gar.efp@noaa.gov. Include in the subject line “MDMR 2023 Alternative Gear Retrieval EFP.”

FOR FURTHER INFORMATION CONTACT: Laura Deighan, Fishery Management Specialist, Laura.Deighan@noaa.gov, (978) 281-9184.

SUPPLEMENTARY INFORMATION: The Maine Department of Marine Resources submitted a complete application for an Exempted Fishing Permit (EFP) to conduct commercial fishing activities that the regulations would otherwise restrict to test alternative gear retrieval systems that only uses one traditional surface buoy. This EFP would exempt the participating vessels from the gear marking requirements at 50 CFR 697.21(b)(2) to allow the use of trawls of more than three traps with one surface marking and § 648.84(b) to allow the use of gillnet gear with one surface marking. The EFP would be valid from June 1, 2023, or the date it is issued, whichever is later, through September 30, 2024.

Alternative Gear Retrieval Trials

This EFP would allow 15 federally permitted vessels to test alternative gears to reduce entanglement risk to protected species, mainly the North Atlantic right whale, in trap/pot and sink gillnet fisheries. Participating vessels would replace one traditional surface marking with either a spring-tag or a timed-release retrieval system. A spring-tag retrieval system uses a low breaking strength (<1700 lb (771.11 kg)) buoy line that releases a stowed retrieval line of greater breaking strength when subjected to tension (>75 lb (34.02 kg)). A timed-release retrieval system releases a stowed line after a programmed pre-set soak time. Vessels would be required to use one traditional surface-marking on the other end of trap trawls of more than three traps and on the other end of all gillnet gear.

Each vessel would modify two existing pieces of gear total, one using a spring-tag on one end and a traditional endline on the other and one using a timed-release on one end and a traditional endline on the other, resulting in no additional vertical lines in the water. Other than gear markings, all trap trawls and gillnet strings would be consistent with the regulations of the management area where the vessel is fishing and would be fished in accordance with the participating vessels' standard operations (number and length of trips, soak times, trap limits, etc.). The researchers anticipate 52 hauls of 26 modified trap trawls (1,352 total hauls) in Lobster Management Areas 1 and 3 and Maine state waters. Trap trawls would be consistent with Atlantic Large Whale Take Reduction Plan (ALWTRP) regulations. Trawls would not exceed 50 traps per trawl and would soak for approximately 3 days (and not more than 30 days). The researchers anticipate 52 hauls of 4 modified gillnet strings (208 total hauls) in Statistical Areas 513, 514, 515, and Maine state waters. Gillnets would be consistent with ALWTRP and Harbor Porpoise Take Reduction Plan regulations. Gillnets would use 15-30.5 cm (5.9-12 in) mesh, would not exceed 3,200 m (10,498.7 ft), and would soak for a period of approximately 24 hours (and not more than 30 days).

The Department and the gear manufacturer will distribute gear and train all participants on its use. Scientific observers may accompany the participants on up to two trips per vessel, within budget and safety limitations. The Department would provide standardized data collection sheets to all participants, but individually-identifiable data will only be made public with the express permission of the vessel owner.

This project would test novel and emerging technologies, including low-cost gear retrieval and sub-sea gear-marking systems, in fixed-gear fisheries to evaluate their impacts on fishing activity and entanglement risk to protected species, mainly the North Atlantic right whale. The project objectives are to: (1) Assess changes to fishing operations from the use of alternative retrieval systems under a variety of oceanographic conditions over a full year; (2) compare the time timed-release retrieval lines remain in the water column to that of traditional persistent buoy lines; (3) identify fishing areas that may be best suited for these alternative retrieval systems; (4) assess changes to fishing operations from the use of alternative gear-marking systems; and, (5) compare data on multiple sub-sea gear-location systems with other methods of ranging gear locations (e.g. surface buoy or digital chart marker).

The Department has proposed the following best management and risk reduction practices:

• Experimental buoy lines will be marked with unique white and blue markings above the experimental timed and spring-tagline retrieval systems, in addition to and above the required regional markings;

• All vessels would provide mandatory, weekly gear loss reports;

• All vessels would report all right whale sightings to NMFS via ne.rw.survey@noaa.gov or NOAA (866-755-6622) or the U.S. Coast Guard (Channel 16);

• All vessels would adhere to a 10-knot speed limit when transiting dynamic management areas, transiting areas closed to vertical lines, and/or when whales are observed;

• All vessels would adhere to current approach regulations that create a 500-yard (457.2-meter or 1,500-foot) buffer zone in the presence of a surfacing right whale and would depart immediately at a safe and slow speed. Hauling any gear would immediately cease (by removal) to accommodate the regulation and be reinitiated only after it was reasonable to assume the whale left the area;

• Law enforcement would be able to inspect gear at any time because one traditional surface-marking will be present at all times. The PI would notify law enforcement agencies of project participants and activities in advance of the project start date, including:

○ Materials related to the redeployment of alternative retrieval gear systems, most relevant to the spring-tagline retrieval system, as the timed-release system can be redeployed without intervention;

○ Information necessary to continue relevant enforcement operations with participant gear.

If approved, the applicant may request minor modifications and extensions to the EFP throughout the year. EFP modifications and extensions may be granted without further notice if they are deemed essential to facilitate the completion of the proposed research and have minimal impacts that do not change the scope or impact of the initially approved EFP request. Any fishing activity conducted outside the scope of the exempted fishing activity would be prohibited.

All comments received are a part of the public record and will generally be posted for public viewing at https://www.noaa.gov/organization/information-technology/foia-reading-room without change. All personal identifying information (e.g., name, address), confidential business information, or otherwise sensitive information submitted voluntarily by the sender will be publicly accessible. NMFS will accept anonymous comments (enter “anonymous” as the signature if you wish to remain anonymous).

Authority: 16 U.S.C. 1801 et seq.

Dated: June 5, 2023.
Jennifer M. Wallace,
Acting Director, Office of Sustainable Fisheries, National Marine Fisheries Service.

[FR Doc. 2023-12289 Filed 6-7-23; 8:45 am]

BILLING CODE 3510-22-P